ENVIRONMENTAL PROTECTION AGENCY

[CERCLA-04-2020-2504; FRL 10023-83-Region 4]

JCC Environmental Superfund Site Picayune, Mississippi; Notice of Extended Comment Period

AGENCY: Environmental Protection Agency (EPA).

ACTION: Notice of extended comment period.

SUMMARY: The United States Environmental Protection Agency published a notice of settlement on April 9, 2021, FRL 10020-84-Region 4, concerning the JCC Environmental Superfund Site located in Picayune, Mississippi. The settlement addresses recovery of CERCLA costs for a cleanup action performed by the EPA at the Site. The settling parties listed with the settlement on the Agency's website was incomplete. The complete listing of parties is now available via the below web address. The agency will be extending the comment period 30 days after the date of this publication.

DATES: The Agency will consider public comments on the settlement until July 9, 2021. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at (404) 562-8887 Email: Painter.Paula@epa.gov.

Erika White,
Acting Chief, Enforcement Branch, Superfund & Emergency Management Division.

[FR Doc. 2021-12054 Filed 6-8-21; 8:45 am]

BILLING CODE 6560-50-P